DEPARTMENT OF THE INTERIOR

National Park Service

[NPS-WASO-NAGPRA-NPS0035343; PPWOCRADN0-PCU00RP14.R50000]

Notice of Inventory Completion Amendment: Kansas State University, Manhattan, KS

AGENCY: National Park Service, Interior.

ACTION: Notice; amendment.

SUMMARY: In accordance with the Native American Graves Protection and Repatriation Act (NAGPRA), Kansas State University has amended a Notice of Inventory Completion published in the Federal Register on September 22, 2017. This notice amends the minimum number of individuals and the number of associated funerary objects in a collection removed from Wyandotte County, KS.

DATES: Repatriation of the cultural items in this notice may occur on or after March 17, 2023.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University. The National Park Service is not responsible for the determinations in this notice. Additional information on the amendments and determinations in this notice, including the results of consultation, can be found in the summary or related records held by Kansas State University.

Amendment

This notice amends the determinations published in a Notice of Inventory Completion in the Federal Register (82 FR 44444-44445, September 22, 2017). Repatriation of the items in the original Notice of Inventory Completion has not occurred. An additional two individuals and 117 associated funerary objects have been located and verified with the original excavation documentation, increasing the minimum number of individuals represented by the human remains and the number of associated funerary objects removed from the Calovich Mound in Wyandotte County, KS.

From the Calovich Mound site (14WY7) in Wyandotte County, KS, human remains representing, at minimum, 81 individuals were removed (previously listed as 79 individuals). The 177 associated funerary objects (previously identified as 60 associated funerary objects) are one partial bone pendant, three shell pendants, 15 shell disk beads, 43 pieces of unmodified freshwater mussel shell, 20 unmodified shells, 21 unmodified stones (including one ochre and two orange gypsum crystals), 35 ceramic body sherds, eight ceramic rim sherds, three pieces of daub, 19 pieces of worked stone (including two projectile points and one fragmented projectile point), one charcoal, and eight bone fragments.

Determinations

Pursuant to NAGPRA and its implementing regulations, and after consultation with the appropriate Indian Tribes and Native Hawaiian organizations, Kansas State University has determined that:

• Pursuant to 25 U.S.C. 3001(9), the human remains represent the physical remains of 81 individuals of Native American ancestry.

• Pursuant to 25 U.S.C. 3001(3)(A), the 177 objects are reasonably believed to have been placed with or near individual human remains at the time of death or later as part of the death rite or ceremony.

• Pursuant to 25 U.S.C. 3001(2), there is a relationship of shared group identity that can be reasonably traced between the Native American human remains and associated funerary objects and the Iowa Tribe of Kansas and Nebraska; Iowa Tribe of Oklahoma; Kaw Nation, Oklahoma; Otoe-Missouria Tribe of Indians, Oklahoma; Pawnee Nation of Oklahoma; and the Ponca Tribe of Indians of Oklahoma.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 17, 2023. If competing requests for repatriation are received, Kansas State University must determine the most appropriate requestor prior to repatriation. Requests for joint repatriation of the cultural items are considered a single request and not competing requests. Kansas State University is responsible for sending a copy of this notice to the Indian Tribes identified in this notice.

Authority: Native American Graves Protection and Repatriation Act, 25 U.S.C. 3003, and the implementing regulations, 43 CFR 10.8, § 10.10, § 10.13, and § 10.14.

Dated: February 8, 2023.
Melanie O'Brien,
Manager, National NAGPRA Program.

[FR Doc. 2023-03241 Filed 2-14-23; 8:45 am]

BILLING CODE 4312-52-P